DEPARTMENT OF ENERGY

Federal Energy Regulatory Commission

[Project No. 2544-052]

Hydro Technology, Inc; Notice of Intent To Prepare an Environmental Assessment

On December 27, 2021, Hydro Technology, Inc filed an application for a subsequent license to continue operating the existing 1,200-kilowatt Meyers Falls Hydroelectric Project No. 2544 (Meyers Falls Project or project). The project is located on the Colville River in Stevens County, Washington. The project does not occupy Federal land.

In accordance with the Commission's regulations, on March 28, 2023, Commission staff issued a notice that the project was ready for environmental analysis (REA notice). Based on the information in the record, including comments filed on the REA notice, staff does not anticipate that licensing the project would constitute a major Federal action significantly affecting the quality of the human environment. Therefore, staff intends to prepare a draft and final Environmental Assessment (EA) on the application to license the Meyers Falls Project.

The EA will be issued and circulated for review by all interested parties. All comments filed on the EA will be analyzed by staff and considered in the Commission's final licensing decision.

The application will be processed according to the following schedule. Revisions to the schedule may be made as appropriate.

¹ The Council on Environmental Quality's (CEQ) regulations under 40 CFR 1501.10(b)(1) require that EAs be completed within 1 year of the Federal action agency's decision to prepare an EA. This notice establishes the Commission's intent to prepare an EA for the Meyers Falls Project. Therefore, in accordance with CEQ's regulations, the Final EA must be issued within 1 year of the issuance date of this notice.

Milestone | Target date
Commission issues Draft EA | January 2024.
Comments on Draft EA | February 2024.
Commission issues Final EA | May 2024.¹

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Any questions regarding this notice may be directed to Maryam Zavareh at (202) 502-8474 or maryam.zavareh@ferc.gov.

Dated: June 7, 2023.
Kimberly D. Bose,
Secretary.

[FR Doc. 2023-12620 Filed 6-12-23; 8:45 am]

BILLING CODE 6717-01-P